DEPARTMENT OF AGRICULTURE

Forest Service

Revision of Land Management Plan for the Uwharrie National Forest

AGENCY: Forest Service, USDA.

ACTION: Notice of initiation to revise the Uwharrie National Forest Land Management Plan.

SUMMARY: The Forest Service is revising the Land and Resource Management Plan (hereafter referred to as Forest Plan) for the Uwharrie National Forest (UNF). This notice provides:

1. A summary of the need to change the Forest Plan;

2. Information on how the public can comment on the need to change, when those comments are due, and how comments can be submitted;

3. A list of documents available for review and how to get them;

4. How the public can participate in the planning process;

5. Who to contact for more information.

DATES: Revision formally begins with publication of this notice in the Federal Register. Many public comments regarding Forest Plan revision have already been received at public meetings and through e-mail. Additional comments on the need to change the Forest Plan should be submitted within 30 days of the date this notice is published in the Federal Register.

ADDRESSES: Submit written comments to: Uwharrie Plan Revision, National Forests in North Carolina, P.O. Box 2750, Asheville, NC 28802. Electronic mail should include “Uwharrie Plan Revision” in the subject line and be sent to: comments-southern-north-carolina@fs.fed.us. More information on the UNF and Forest Plan revision process is available at: http://www. cs.unca.edu/nfsnc/uwharrie_plan/.

FOR FURTHER INFORMATION CONTACT: Ruth Berner, National Forests in North Carolina, Planning Team Leader, (828) 257-4862.

SUPPLEMENTARY INFORMATION: The Uwharrie National Forest is managed as part of the National Forests in North Carolina. The original Forest Plan for the UNF was completed in 1986.

Documents Available for Review

Several reports and draft documents written over the past few years help identify how the existing Forest Plan might need to change to be more useful in the future. These documents include:

1. Uwharrie National Forest Recreation Realignment Report (August 2001), hardcopy available by sending a request to comments-southern-north-carolina@fs.fed.us.

2. Roads Analysis Process Report Uwharrie National Forest (December 2003), available online at http://www.cs.unca.edu/nfsnc/roads/uwharrie_rap.pdf.

3. Uwharrie National Forest Watershed Analysis Draft Report (September 2004), hardcopy available by sending a request to comments-southern-north-carolina@fs.fed.us.

4. Uwharrie National Forest—A Strategic View (July 2005, Initial Draft Comprehensive Evaluation Report), available online at http://www.cs.unca.edu/nfsnc/uwharrie_plan/, or by requesting a copy.

Need for Change

Growing as a Tourist Destination: As population in the area grows, local public lands are increasingly being seen as a place of relaxation; a quiet, peaceful retreat. The UNF is the top tourist destination in Montgomery County, and one of several popular tourist destinations in Randolph County. There may be tourism-related opportunities to provide more economic benefits to local communities.

Nature Hikes Becoming More Popular: Most visitors to the UNF seek a place to walk, view nature, and perhaps picnic, swim, or fish. The UNF, with its lake and river frontage, rolling topography, and existing road and trail system, is currently providing a variety of these opportunities. There may be ways to make visits more enjoyable, especially along the Uwharrie Trail and the Uwharrie River.

Game Lands Heavily Hunted: Hunting definitely has a place on the UNF; the Forest has the highest hunting use per acre of any North Carolina Wildlife Resources Commission (NCWRC) game land. There may be opportunities to better provide the types of wildlife habitat that are in short supply on nearby private land.

Providing Wood Products: Timber harvested from the UNF helps to meet increasing American consumer demand for wood products while at the same time providing a cost-effective way to create and maintain wildlife habitat. Wood products also provide economic benefits to local communities. There may be opportunities to change the amount or type of timber products offered to the local forest products industry.

Opportunities To Improve the Transportation System: There may be opportunities to improve the existing UNF road and trail system, to enhance public access while minimizing visitor conflicts and resource damage.

Opportunity for Off-Highway Vehicles: Off-highway vehicles (OHV) currently have access to a sixteen-mile trail system. There are few other known opportunities in the Piedmont for this type of experience, and demand is increasing. OHV use on NFS lands is controversial due to potential resource impacts and incidents when OHV users have strayed from the trail system. There may be opportunities to better manage the OHV trail system to provide the desired experience while lessening impacts to the forest resources.

Interpreting History: Archeological and historical resources on the UNF provide a unique opportunity for current forest visitors to learn about those who lived here in the past, and at the same time provide an outdoor recreation experience. Careful, innovative planning may ensure that historically important sites are protected yet still accessible.

Restoring Native Ecosystems: Existing UNF ecosystems include native pine and hardwood communities, but also include loblolly pine communities on sites that once supported longleaf pine. Vegetation management could restore longleaf pine and other historic plant communities on appropriate sites.

Using Fire as a Tool: Restoring the natural role of fire is important in sustaining some ecosystems such as longleaf pine and the open woodland conditions used by a number of rare plants. Increasing use of prescribed fire may better maintain these native plant communities.

Controlling Non-native Invasive Plants: Controlling non-native invasive plant species would allow us to better sustain native plant communities.

Consistent Acorn Production: There is a relatively limited supply of oaks in the age range when acorns are most abundantly produced. Periodic vegetation management can ensure an adequate age range of oaks for acorn production over time. Acorns are an important food source for many wildlife species on the UNF.

Selective Stream Restoration: Most aquatic habitats on the UNF are in good to excellent condition and support a high diversity of fish and mussel species. However, some stream channel conditions are less than optimal. There is an opportunity and a need to restore these impaired stream channels.

Managing Roads and Trails Effectively to Reduce Erosion: The roads and trails on the UNF are potential sediment sources that can degrade water quality and aquatic habitats. There is a need and an opportunity to reduce the sediment from these sources through partnerships, and better management and maintenance.

Comment Requested

The Forest Service is seeking information and comments from individuals, organizations, and Federal, state, and local governments and agencies on the need to change the current UNF Forest Plan direction. The current conditions and trends of forest resources and opportunities for change are described in more detail in the Uwharrie National Forest—A Strategic View (Initial Draft of the Comprehensive Evaluation Report). The Forest Service is asking for comment on the topics identified in the Need for Change summarized above and for any other topics that individuals, organizations, and government and agencies feel should be addressed during the revision process. As described above, any comments on the Need for Change should be submitted within 30-days from the publication of this Notice of Initiation.

Public Participation

The plan revision is an open process with numerous opportunities for the public to obtain information, provide comments, or participate in collaborative stakeholder activities. Options for the public include the following methods: (1) Participating in collaborative dialogue at public meetings, (2) reviewing and commenting on the documents, preliminary plan components, analysis results, and supporting maps (posted on our Web site http://www.cs.unca.edu/nfsnc/uwharrie_plan or sent to you hardcopy at your request), or (3) providing input during formal comment periods.

The focal points of the collaborative work are: (1) Developing and refining plan desired conditions, (2) designing management objectives to work toward attaining or maintaining desired conditions, (3) identifying suitable uses for various parts of the UNF, (4) identifying special areas, (5) writing guidelines to serve as operational controls or environmental safeguards, (6) outlining the monitoring framework to be used for evaluating forest conditions. We expect this phase of collaboration to run through the spring of 2006. Our remaining forest plan revision schedule will be approximately as follows: (1) Release of draft forest plan and start of 90-day public comment period, fall 2006, (2) release of final plan and start of 30-day objection period, summer 2007, (3) final decision and start of plan implementation, fall 2007.

Responsible Official

The Forest Supervisor, National Forests in North Carolina, is the Responsible Official (36 CFR 219.2(b)(1)).

(Authority: 36 CFR 219.9(b)(2)(i), 70 FR 1023, January 5, 2005)

Marisue Hilliard,
Forest Supervisor, National Forests in North Carolina.

[FR Doc. 05-22910 Filed 11-17-05; 8:45 am]

BILLING CODE 3410-ES-M